DEPARTMENT OF LABOR

Office of Disability Employment Policy

[SGA 03-09]

High School/High Tech State Development and Implementation Grants

AGENCY: Office of Disability Employment Policy, Department of Labor.

ACTION: Notice of availability of funds; solicitation for grant applications (SGA).

This notice contains all of the necessary information and forms needed to apply for grant funding. (SGA 03-09).

SUMMARY: The U.S. Department of Labor (DOL), Office of Disability Employment Policy (ODEP) announces the availability of $1.8 million to award up to eight competitive grants in the amount of approximately $225,000 to assist states in implementing the High School/High Tech (HS/HT) program on a statewide basis.

This grant initiative involves one competitive Solicitation for Grant Application (SGA) that will be used to award both HS/HT Implementation Grants and HS/HT Development Grants:

(1) HS/HT State Implementation Grants: Successful state applicants will demonstrate that all partners relevant to successful implementation of the HS/HT program in the state are in place (e.g., education, Workforce Investment Act, Development Disability Councils, etc.); and that the state has the capacity to implement the HS/HT design features discussed below throughout the state. In addition, successful applicants will be able to demonstrate a strong plan for sustainability of the HS/HT program when federal funding ceases. The Implementation Grants will be awarded for a one-year period of performance and funded at a level of $225,000. These grants may be renewed up to four times for an additional year of funding with the fourth and fifth years at reduced funding levels of 80% and 60% of third year funding levels, respectively, depending upon project performance and funding availability. See also Parts IV, IX.

(2) HS/HT State Development Grants: These grants will be targeted to state applicants able to demonstrate their capacity to implement and sustain the HS/HT program as described above in relation to the Implementation Grants within a short time period if provided with appropriate technical assistance. The Development Grants will be awarded for a one-year period of performance and funded at $225,000, after which time grantees will be eligible to apply for Implementation Grant funding. Development Grants will not be renewable.

The purpose of these grants is to assist states, working in partnership with the State Workforce Investment Board, in implementing a statewide HS/HT program, in integrating the HS/HT program into youth services funded under the Workforce Investment Act (WIA) (Pub. L. 105-220, 29 U.S.C. 2801 et seq.), and in ensuring sustainability of the HS/HT program through state-level management and coordination. HS/HT is a career development program designed to provide high school aged youth with disabilities with an opportunity to explore careers or gain further education that may lead to technology-related careers. These programs, which have generally been locally directed and supported, serve both in-school and out-of-school youth with disabilities in a year round program of corporate site visits, mentoring, job shadowing, guest speakers, after school activities and summer internships.

The application and evaluation/selection criteria for both types of grants are the same. The first applicants selected when evaluated pursuant to the criteria set forth in Parts VII and IX of this SGA will be awarded High School/ High Tech Implementation Grants. The next three applicants selected will receive HS/HT Development Grants. Revised scope of work and budget documents will be required from all Development Grantees within forty-five (45) days of the award to reflect the one-year period of performance.

Eligibility: Eligible applicants for these grants include State Workforce Investment Boards; State Departments of Education; State Departments of Labor; State Developmental Disability Councils; State Departments of Vocational Rehabilitation; or State Committees affiliated with the National Governors' Committees for People with Disabilities, and other similar state agencies. “State” in this context includes the 50 states, the District of Columbia, Puerto Rico, the U.S. Virgin Islands, Guam, and American Samoa. Consortia of state agencies and not-for-profit organizations (including community and faith-based organizations, independent living centers, etc.) and local HS/HT sites are also eligible applicants. Prior recipients of state-level HS/HT grant funding are ineligible to receive additional funding under this solicitation.

DATES: Applications will be accepted commencing on June 6, 2003. The closing date for receipt of applications under this announcement is July 21, 2003. Applications must be received by 4:45 p.m. (ET) at the address below. No exceptions to the mailing and hand-delivery conditions set forth in this notice will be granted. Applications that do not meet the conditions set forth in this notice will be considered non-responsive.

ADDRESSES: Applications shall be mailed to: U.S. Department of Labor, Procurement Services Center, Attention: Cassandra Willis, Reference SGA 03-09, Room N-5416, 200 Constitution Avenue, NW., Washington, DC 20210. Telefacsimile (FAX) applications will not be accepted. Applicants are advised that mail delivery in the Washington area may be delayed due to mail decontamination procedures.

FOR FURTHER INFORMATION CONTACT: Cassandra Willis, U.S. Department of Labor, Procurement Services Center, telephone (202) 693-4570 (this is not a toll-free number), prior to the closing deadline. Persons who are deaf or hard of hearing may contact the DOL via the Federal Relay Service, (800) 877-8339. This announcement will also be published on the Internet on ODEP's online Home Page at: http://www2.dol.gov/odep. Award notifications will also be published on the ODEP Homepage.

Solicitation Information Conference Call: A Solicitation Information Conference Call will be held at 2 p.m., Monday, June 19, 2003. The purpose of this conference call is to provide interested parties an overview of this grant program and an opportunity to ask questions concerning this solicitation. Transcripts of the conference will be made available on request in accessible formats. Individuals who wish to participate in this conference call must register by contacting ODEP at (202) 693-7880, no later than 4:45 p.m. ET on Tuesday, June 16, 2003. Please ask to register for the HS/HT SGA Conference Call. Registrations should be made as soon as possible. At the time of registration, call-in information will be provided.

SUPPLEMENTARY INFORMATION:

Part I. Delivery of Applications

1. Late Applications. Any application received after the exact date and time specified for receipt at the office designated in this notice will be considered non-responsive, unless it is received before awards are made and it (a) is determined that its late receipt was caused by DOL error; (b) was sent by U.S. Postal Service registered or certified mail not later than the fifth calendar day before the date specified for receipt of applications (e.g., an application submitted in response to a solicitation requiring receipt of applications by the 20th of the month must have been post marked by the 15th of that month); or (c) was sent by the U.S. Postal Service Express Mail Next Day Service to addressee not later than 5 p.m. at the place of mailing two working days prior to the date specified for receipt of applications. The term “working days” excludes weekends and Federal holidays. “Post marked” means a printed, stamped or otherwise placed impression (exclusive of a postage meter machine impression) that is readily identifiable, without further action, as having been supplied or affixed on the date of mailing by an employee of the U.S. Postal Service.

2. Withdrawal of Applications. Applications may be withdrawn by written notice or telegram (including mail gram) received at any time before an award is made. Applications may be withdrawn in person by the applicant or by an authorized representative thereof, if the representative's identity is made known and the representative signs a receipt of the proposal.

3. Hand-Delivered Proposals. It is preferred that applications be mailed at least five days prior to the closing date. To be considered for funding, hand-delivered applications must be received by 4:45 p.m., ET, at the specified address. Failure to adhere to the above instructions will be basis for a determination of non-responsiveness. Overnight express mail from carriers other than the U.S. Postal Service will be considered hand-delivered applications and must be received by the above specified date and time.

Part II. Authority

Omnibus Appropriations Resolution, 2003, Pub. L. 108-7; Consolidated Appropriations Act, 2001, Pub. L. 106-554, 29 U.S.C. 557b.

Part III. Background

HS/HT is a career development program for high school aged youth that started almost two decades ago in Los Angeles, California, to address concerns that not enough students, especially those with disabilities, were being prepared for careers in technology-focused industries. The Atlantic Richfield Company, with support from the Los Angeles Unified School District, designed America's first technology-focused transition program for young people with disabilities.

Shortly thereafter, in 1986, the President's Committee on Employment of People with Disabilities (PCEPD), whose mission was to facilitate the communication, coordination, and promotion of public and private efforts that enhance the employment of people with disabilities, adopted the program. Building upon the strength of the public/private partnership that began in Los Angeles, program leaders developed relationships with large and small businesses, education and non-profit organizations, and government agencies. These relationships helped HS/HT grow and expand across the country.

The newly created Office of Disability Employment Policy at the United States Department of Labor assumed the role as the Federal agency responsible for continuing this program. In 2001, ODEP entered into a cooperative agreement with the National Collaborative on Workforce and Disability for Youth (NCWD/Youth) to provide technical assistance and support to HS/HT sites nationwide. During 2002, ODEP and NCWD/Youth undertook a substantial refinement of the HS/HT program standards to promote the expansion of this career development program.

HS/HT is a network of state and locally operated programs designed to provide young people with all types of disabilities the opportunity to explore jobs or gain further education leading to technology-related careers. HS/HT is a community-based partnership with 70-plus programs currently operating across the country. The programs operate year-round in a variety of settings—schools, community organizations, businesses, and other locations. Current HS/HT operators include non-profits (Goodwill, Centers for Independent Living, United Cerebral Palsy Affiliates, etc.), community colleges, universities and school districts. Its stakeholders include employers, educators, consumers, family members, workforce system agencies, and rehabilitation professionals.

The HS/HT program offers proven techniques for developing improved employment outcomes for young people with disabilities. The HS/HT program is premised on four design features, supported by experience and research, as to what youth with disabilities need to succeed in adulthood. These four design areas include preparatory experiences, connecting activities, work-based experiences, and leadership development. See the HS/HT Program Manual at http://www.ncwd-youth.info/resources&Publications/hshtmanual.html for further information. Graduates of HS/HT programs that employ these design features have demonstrated at least double the post-secondary educational achievements of similarly situated students with disabilities who do not have this opportunity. At some HS/HT sites, as many as 70 percent of HS/HT graduates move on to post-secondary education. HS/HT clearly enhances expectations, educational achievements, and eventual employment outcomes for a population who, without this intervention, may be far more likely to move onto the Supplemental Security Income (SSI) or Social Security Disability Insurance (SSDI) rolls than to find competitive employment in technology related occupations.

Funding for HS/HT sites has traditionally been managed locally. In the past several years, however, ODEP has sought to move the leadership and funding towards a state-level model through its grant activities. In 2001, ODEP funded start-up HS/HT sites that began connecting HS/HT and WIA-assisted youth programs at the community level. In 2002, ODEP expanded upon that effort by funding grants to assist states in developing statewide HS/HT infrastructure and operations and further integrating HS/HT programs into the youth services provided under the One-Stop System.

The 2003 HS/HT grants are the next step in this process and focus on both state-level implementation and long-term sustainability. HS/HT sites have traditionally worked with community systems to coordinate the delivery of educational and transitional services to youth with disabilities. The HS/HT Implementation and Development Grants to be awarded as a result of the current SGA are intended to:

(1) Assist states in implementing a statewide HS/HT network working in partnership with the State Workforce Investment Board;

(2) Integrate the HS/HT program into WIA-assisted youth services; and

(3) Ensure sustainability of the HS/HT program through state-level management and coordination.

(4) Bringing HS/HT to the state-level will to help ensure that resources within a state are maximized and coordinated for the benefit of all HS/HT sites in that state. HS/HT state directors will work with key stakeholders (workforce investment systems, colleges, developmental disability councils, governors' committees on the employment of people with disabilities, employers, educators, rehabilitation professionals, consumers, and parents) to institutionalize the program within the state. By linking HS/HT, WIA and additional resources at the state-level, students with disabilities will have an increased opportunity to participate in meaningful school-to-career initiatives.

Part IV. Funding Availability and Period of Performance

ODEP anticipates awarding approximately eight grants under this solicitation to be funded at a level of approximately $225,000. The HS/HT Implementation awards will be for a one-year period of performance and may be renewed annually up to four additional years for a total of five years, depending upon the availability of funds and the efficacy of the grant activities as established by independent reviews conducted by the DOL or its designee. Proposals must include budgetary information for a five-year period. It is envisioned that if funding is continued for the full five years, the funding for years four and five will be at successively lower rates, with funding during year four at 80 percent of the third year funds, and funding for year five at 60 percent of the third year funds. The HS/HT Development Grants will be for a one-year period of performance and will not be renewed.

Up to five Implementation Grants and up to three Development Grants will be awarded. It is expected that the funds used for this grant program will support the costs associated with the development, implementation, and evaluation of state-level HS/HT programs. The funds may be used to conduct a variety of activities to support and sustain state-level HS/HT operations such as staff training, strategic planning, partnership building, assessment, curriculum/materials development, career development, student-focused planning, program alignment, etc. Grant funds may be used to fund the creation of new HS/HT sites as well as to support existing sites as part of the implementation of an overall statewide HS/HT system.

Part V. Eligible Applicants and Required Partnerships

Eligible Applicants: Eligible applicants include State Workforce Investment Boards; State Departments of Education; State Departments of Labor; State Developmental Disability Councils; State Departments of Vocational Rehabilitation; or State Committees affiliated with the National Governors' Committees for People with Disabilities, and other similar state agencies. “State” in this context includes the 50 states, the District of Columbia, Puerto Rico, the U.S. Virgin Islands, Guam, and American Samoa. Consortia of state agencies and not-for-profit organizations (including community and faith-based organizations, independent living centers, etc.) and local HS/HT sites are also eligible applicants. Prior recipients of state-level HS/HT grant funding are ineligible to receive additional funding under this solicitation.

Indian and Native American Tribal entities, or consortia of Tribes, with the written approval of their tribal council, are also eligible to receive these grants. Grants to Indian and Native American tribal grantees must recognize principles of sovereignty and self-governance established under the Indian Self-Determination and Education Assistance Act, allowing for the government-to-government relationship between the Federal and Tribal Governments.

Required Partnerships: In addition to the State Workforce Investment Board, which is a mandatory partner in these grant activities, each grantee must, at a minimum, demonstrate the involvement of members of three of the other above-mentioned state-level groups in strategic planning and implementation activities. Tribal entities also must involve, at a minimum, members of three of the other groups mentioned above in strategic planning and implementation activities with the State Workforce Investment Board constituting a mandatory partner.

Part VI. Format Requirements for Grant Application

General Requirements: Applicants must submit one (1) paper copy with an original signature and two (2) additional paper copies of the signed proposal. To aid with the review of applications, DOL also encourages Applicants to submit an electronic copy of their proposal on a disc or CD using Microsoft Word. Applicants who do not provide an electronic copy will not be penalized. The Application Narrative must be double-spaced with standard margins on 8½ x 11 papers, and be presented on single-sided, numbered pages with the exception of format requirements for the Executive Summary. The Executive Summary must be limited to no more than two single-spaced, single-sided pages on 8½ x 11 papers with standard margins throughout. A font size of at least twelve (12) pitch is required throughout. Applications that fail to meet these requirements will be considered non-responsive.

The three required sections of the application are:

Section I—Project Financial Plan

Section II—Executive Summary—Project Synopsis

Section III—Project Narrative (including Attachments, not to exceed 40 pages)

Mandatory requirements for each section are provided as follows in this application package. Applications that fail to meet the stated mandatory requirements of each section will be considered non-responsive.

Mandatory Application Requirements

• Section I. Project Financial Plan (Budget) (The Project Financial Plan will not count against the application page limits.) Section I of the application must include the following three required parts:

(1) Completed “SF 424—Application for Federal Assistance” (See Appendix A of this SGA for required form.)

(2) Completed “SF 424A—Budget Information Form” by line item for all costs required to implement the project design effectively. (See Appendix B of this SGA for required forms.)

(3) Budget Narrative and Justification that provides sufficient information to support the reasonableness of the costs included in the budget in relation to the service strategy and planned outcomes.

The application must include one SF-424 with the original signatures of the legal entity applying for grant funding and 2 additional copies. Applicants shall indicate on the SF-424 the organization's IRS Status, if applicable. Under the Lobbying Disclosure Act of 1995, section 18 (29 U.S.C. 1611), an organization described in section 501(c)(4) of the Internal Revenue Code of 1986 that engages in lobbying activities will not be eligible for the receipt of Federal funds constituting an award, grant, or loan. (See 2 U.S.C. 1611; 26 U.S.C. 501(c)(4).) For item 10 of the SF-424, the Catalog of Federal Domestic Assistance (CFDA) number for the program is 17.720.

The Budget Narrative and Justification must describe all costs associated with implementing the project that are to be covered with grant funds. Grantees must support the travel and associated costs with sending at least one representative to the annual ODEP Policy Conference for Grantees, to be held in Washington, DC at a time and place to be determined. Grantees must comply with the “Uniform Administrative Requirements for Grants and Cooperative Agreements to State and Local Governments,” (also known as the “Common Rule”) codified at 29 CFR part 97, and “Grants and Agreements with Institutes of Higher Education, Hospitals, and Other Non-Profit Organizations (also known as OMB Circular A-110), codified at 29 CFR part 95 and must comply with the applicable OMB cost principles circulars, as identified in 29 CFR 95.27 and 29 CFR 97.22(b).

In addition, the budget must include on a separate page a detailed cost analysis of each line item. Justification for administrative costs must be provided. Approval of a budget by DOL is not the same as the approval of actual costs. The individual signing the SF 424 on behalf of the applicant must represent and be able to legally bind the responsible financial and administrative entity for a grant should that application result in an award. The applicant must also include the Assurances and Certifications Signature Page (Appendix C).

• Section II. Executive Summary—Project Synopsis (The Executive Summary is limited to no more than two single-spaced, single-sided pages on 8½ x 11 papers with standard margins throughout). Each application shall include a project synopsis that identifies the following:

(1) The name of the applicant;

(2) The type of organization the applicant represents, the additional consortium partners and the type of organization they represent;

(3) The amount of funds requested;

(4) The planned period of performance;

(5) The extent to which Vocational Rehabilitation and the WIA-assisted Youth Service System will be integrated or coordinated with the HS/HT system;

(6) An overview of how the applicant will capitalize on and coordinate with existing HS/HT sites, if applicable;

(7) An overview of the applicant's plan for expanding HS/HT statewide; and

(8) An overview of the applicant's plan for sustaining the HS/HT program once Federal funding ceases.

• Section III. Project Narrative (The Project Narrative plus attachments are limited to no more than forty (40) 8½ x 11 pages, double-spaced with standard one-inch margins (top, bottom, and sides), and be presented on single-sided, numbered pages). Note: The Financial Plan, the Executive Summary, and the Appendices are not included in the forty (40)—page limit]. The substantive requirements for the project narrative are described below under Part VII—Statement of Work.

All text in the application narrative, including titles, headings, footnotes, quotations, and captions, as well as all text in charts, tables, figures, and graphs must be double-spaced (no more than three lines per vertical inch); and, if using a proportional computer font, use no smaller than a 12-point font, and an average character density no greater than 18 characters per inch (if using a non-proportional font or a typewriter, do not use more than 12 characters per inch). Applications that fail to meet these requirements will be considered non-responsive.

Part VII. Government Requirements/Statement of Work (Project Narrative)

The Project Narrative, or Section III of the grant application, should provide complete information on how the applicant will address the following DOL strategic goal priorities to ensure a Prepared Workforce:

(1) Increasing the availability of skills training, employment opportunities, and career advancement for persons with disabilities.

(2) Increasing the number of youth making a successful transition to work or who enter further training or educational programs.

Proposals will be rated based upon the quality of the applicant's response in addressing the four criteria described below in terms of a comprehensive strategic approach that incorporates the Department's priorities noted above. The four criteria (Statement of Need, Comprehensive Service Strategy, Sustainability, and Monitoring and Reporting) must be addressed and the applicant's accomplishments or status with regard to each item provided.

The DOL, however, does not expect the applicant to incorporate every item listed as part of their strategy and proposal design. The DOL recognizes that the needs and requirements of each state may be different, and therefore, some of the options identified may be more relevant than others in a particular state.

1. Statement of Need (15 points)

The purpose of the Statement of Need criteria is to: Establish the overall status of disability issues relating to youth in the applicant's state; to identify strengths and deficiencies to be addressed by the applicant's proposal; to identify the overall scope of proposal objectives and design; and, to present the applicant's need for HS/HT grant resources. This criterion will be rated based upon the applicant's identified needs and proposed approach to addressing these needs in the context of the DOL's priorities.

For proposals targeted to a specific Indian community or covering multiple Tribal entities that may cut across multiple States and/or local areas, describe the overall approach of the project, and identify the inadequacies and deficiencies of the service delivery to the applicable community, and how the project expects to address these.

The narrative in this section should:

(1) Describe the potential contribution of the proposed project to increasing the quality of transition services available in the state;

(2) Describe the overall status and actions taken to-date within the State relating to implementation of the HS/HT program and the level of commitment of any existing HS/HT program to working with the applicant;

(3) Describe the extent to which the proposed project involves the development or demonstration of promising new strategies;

(4) Describe the number of young people with disabilities expected to be served in the proposed HS/HT program within the State and the importance or magnitude of the results that are likely to be attained by the proposed project;

(5) Identify the percentage of young people with disabilities in the State including the percentage of people who are beneficiaries of Social Security Disability Insurance (SSDI) and/or Social Security Income Program (SSI);

(6) Identify the most recent state graduation rates for young people with disabilities in the State, as well as the overall graduation rate;

(7) Describe any significant deficiencies in the State or local workforce investment system that present barriers to employment for young people with disabilities and explain what will be accomplished under this grant to address them;

(8) Describe how the applicant will increase services, skill training, employment outcomes, educational and job retention, and career advancement for young people with disabilities and how the ODEP priorities identified above will be achieved; and

(9) Identify additional State and/or local funds and resources that will be leveraged to support the overall objectives of the grant.

In evaluating the quality of the proposal narrative, ODEP will consider the applicant's needs identified and proposed approaches to addressing the needs in the context of ODEP's priorities.

2. Comprehensive Service Strategy (30 points)

The purpose of the Comprehensive Service Strategy criteria is to identify the approach proposed by the grantee to implement the HS/HT program on a statewide basis. In general, this requires extensive linkages and on-site knowledge of applicable resources that address multiple disability issues and barriers to education and employment that are commonly experienced by young persons with disabilities. Specifically, applicants must address staff capacity as well as their proposed design elements.

A. Staff Capacity—The applicant must identify how it will ensure that trained staff with comprehensive knowledge of diverse disabilities will be available to provide grant related services. Accordingly, the application should:

(1) Describe the specific experience of the applicant(s) in serving young people with disabilities, in providing technology-related training, in addressing specific barriers to employment, in achieving expected outcomes in the delivery of such services/programs, and in implementing and administering project plans similar to that in the proposed grant project;

(2) Document that the State Director has the comprehensive knowledge and experience to expand HS/HT at a state-level. A resume or position description of the state director must be included in the Appendices to the application;

(3) List and describe key positions required to carry out the project as proposed, the key personnel proposed to fill the positions, and a detailed description of the kind of work these individuals will perform within the project; and

(4) Provide evidence of the staff's skill, knowledge and experience in carrying out these types of activities, and describe their relevant training. Resumes must be included in the Appendices to the application.

B. Proposed Design—The application must address the proposed design for a state-based HS/HT infrastructure. The application must also identify the plan for developing and locating HS/HT program sites and the basis for that distribution plan [i.e. as linked with Local Workforce Investment Boards, etc.]. Finally, the application must address incorporation of the HS/HT Manual and its four design features, and should:

(1) Describe the roles of the partners set forth in the Sustainability Section of Part VII within the state's HS/HT operations. Explain how the partners will integrate and leverage resources to advance the HS/HT model;

(2) Identify the locations of HS/HT program sites based on the number and distribution of students with disabilities in the state;

(3) Describe the strategy that will be used to integrate and maintain existing HS/HT sites in the state, and to develop and increase the number of HS/HT sites in the state;

(4) Explain how technology will be used in carrying out grant activities;

(5) Identify and explain the benefits or results expected from the grant activities proposed;

(6) Discuss how the applicant will establish leadership from, or a working relationship with, a State Workforce Investment Board, the State Department of Labor, State Department of Education, State Vocational Rehabilitation, a WIA youth-related entity, and other community partners (e.g., area disability organizations, state committees on employment of people with disabilities, faith-based and community organizations, Centers for Independent Living, interested employers) in the establishment and operation of a state-level HS/HT program. The State Workforce Investment Board is a mandatory partner for this grant. At least three categories of the above listed organizations must also be represented in and be a part of the state-level leadership team;

(7) Describe the strategy for gaining the support of people with disabilities and their families;

(8) Describe the outreach and marketing strategy to the disability community and organizations that represent or work with people with disabilities;

(9) Describe specific approaches for developing relationships with disability organizations representing youth with disabilities such as Centers for Independent Living, the state's Youth Leadership Forum, and state members of the National Youth Leadership Network;

(10) Describe specific approaches for developing relationships with and the support of area employers that establish employment opportunities for individuals with disabilities, including any commitments by employers to hire these individuals;

(11) Describe linkages with Business Leadership Networks (BLNs) (that have been established in approximately 30 states) if applicable; and

(12) Describe linkages with state/local public agencies such as Special Education; Vocational Rehabilitation; State Councils for Independent Living; local Centers for Independent Living (CILs); state mental health agencies, state mental retardation and Developmental Disability Councils; Temporary Assistance for Needy Families (TANF) agencies; and private, non-profit organizations such as disability advocacy and provider organizations, as well as federally-funded disability grant recipients, including community and faith-based organizations.

In evaluating the quality of the proposed project design, ODEP will also consider the following factors:

(a) The extent to which the goals, objectives, and outcomes to be achieved by the proposed project are clearly specified and measurable;

(b) The extent to which the design of the proposed project is appropriate to, and will successfully address, the needs of the target population and other identified needs and the quality of the applicant's plans for recruiting and retaining the target population;

(c) The extent to which the design of the proposed project provides procedures and approaches for collaboration and coordination with key agencies and organizations and identification of critical roles;

(d) The extent to which the applicant encourages involvement of people with disabilities and their families, experts and organizations, and other relevant stakeholders in project activities;

(e) The extent to which performance feedback and continuous improvement are integral to the design of the proposed project; and

(f) The extent to which the management plan for project implementation is likely to achieve the objectives of the proposed project on time and within budget.

3. Sustainability (30 points)

The purpose of the sustainability criteria is to identify strategies for ensuring that activities funded under the grant will continue once Federal funding ceases. Resources and partnerships are an integral element of the project, as they support and strengthen the quality of the technical skills training provided and contribute materially toward sustainability. Sustainability must be an objective built into the project design, the strategic planning and ongoing operation of the project. Projects funded under this SGA must leverage a combination of federal, state, and local public sector resources, as well as private and local non-profit sector resources for purposes of sustainability.

In evaluating the quality of the plan for sustainability, ODEP considers the following factors to be of particular importance:

(a) The extent to which the proposed project is designed to build capacity and yield results that will extend beyond the period of this grant;

(b) The likelihood of the applicant successfully securing state ownership and participation in these projects when these grant funds cease (a letter from the Governor must be included or, if this is not feasible, a letter from the head of an appropriate state agency may be substituted); and

(c) The extent to which partnerships with outside entities (including public and private disability and community and faith-based organizations) and funding from additional Federal, State, and/or local resources will be effectively leveraged and utilized in continuing HS/HT activities after the expiration of the grant.

Accordingly, in the Sustainability section, the applicant should enumerate resources, describe any specific existing contractual commitments, and provide concrete evidence of sustainability beyond the duration of this grant.

Grantees are expected to use this grant as seed money to develop other public and private resources to ensure sustainability of grant activities following completion of the funding period. Grant monies may be used to fund the creation of new HS/HT sites as well as to support existing sites as part of the development of an overall statewide HS/HT system.

ODEP considers detailed commitments for specific new activities to be more important than promises of in-kind supports in demonstrating sustained support for the project. Grants recently received from another agency can be discussed in the proposal, but the applicant should be precise in delineating which activities precede this grant and which will occur because of this grant. In addition, the applicant should detail how public sector commitments can contribute to the sustainability of this project following completion of the grant. Examples of the types of public and private sector commitments envisioned include the following:

• The school system commits to offering credit for HS/HT training activities;

• The school system commits to incorporating HS/HT into their Individual Education Plans;

• The vocational rehabilitation office commits to funding assistive technology and transportation services for students enrolled in the program;

• A community college commits to providing technology training for HS/HT students;

• State-level elected officials commit to work towards state codification of HS/HT;

• An employer commits to providing technology-based summer internships;

• State and Local Workforce Investment Boards commit to paying internship costs;

• A university commits to providing scholarships for HS/HT students.

• A Developmental Disability Council commits to funding a new HS/HT site; and

• An independent living center commits a staff person to work full time on HS/HT.

Letters of Commitment. Applicants may include letters of support if they provide specific commitments regarding the application to this solicitation. Such letters can increase an applicant's score by showing that the commitments in the text of the proposal are grounded with actual commitments. Form letters will be considered non-responsive. Applicants are encouraged to have letters of support from all existing HS/HT programs in their states.

Letter from the Governor. A letter from the Governor or functionally equivalent entity reflecting support of state-level implementation of the HS/HT program will be viewed favorably. If a letter from the Governor is not feasible, the application must include a letter from the head of an appropriate state agency.

4. Management and Outcomes (25 points)

The purpose of the Management and Outcomes criteria is to determine whether the applicant has developed an adequate management plan to effectively carry out the objectives and scope of the proposed project on time and within budget, to describe the predicted outcomes resulting from activities funded under this SGA, and to identify the methods of evaluation that will be used by the grantee to determine success.

Applicants must provide a detailed management plan that identifies the critical activities; time frames and responsibilities for effectively implementing the project, including the evaluation process, for assuring successful implementation of grant objectives. A description of the plan to report the demographic characteristics of students, types of programming activities and program outcomes (post-secondary education and employment) of youth with disabilities served through the HS/HT program in the applicant's state; and to compare their performances with students with and without disabilities not enrolled in the program should also be provided.

In addition, applicants should outline the strategy for documenting and reporting the activities undertaken during the life of the grant for ODEP's future use in working with other grantees and constituencies.

In evaluating the management and outcomes criteria, ODEP also considers the following factors to be of particular importance:

(a) The extent to which the goals, objectives, and outcomes to be achieved are clearly specified and measurable;

(b) The extent to which the design of the proposed project features innovative methods for developing new sites and/or strengthening existing sites;

(c) The extent to which the proposal incorporates the strategic plan in Part VII, Statement of Work;

(d) The extent to which the proposed budget and narrative justification are adequate to support the proposed project;

(e) The extent to which performance feedback and continuous improvement are integral to the design of the proposed project;

(f) The extent to which the methods of evaluation are thorough, feasible, and appropriate to the goals, objectives, context, and outcomes of the proposed project;

(g) The extent to which the methods of evaluation provide for examining the effectiveness of project implementation strategies;

(h) The extent to which the methods of evaluation include the use of objective performance measures that are clearly related to the intended outcomes of the project and will produce quantitative and qualitative data;

(i) The extent to which the evaluation will provide information to other programs about effective strategies suitable for replication or testing in other settings;

(j) The extent to which the methods of evaluation measure in both quantitative and qualitative terms, program results and satisfaction of people with disabilities;

(k) The extent to which the management plan for project implementation is likely to achieve the objectives of the proposed project on time and within budget;

(l) The adequacy of mechanisms for ensuring high-quality products and services from the proposed project; and

(m) The extent to which the time commitments of the state director and/or principal investigator and other key project personnel are appropriate and adequate to meet the objectives of the proposed project.

Part VIII. Monitoring and Reporting

Monitoring: ODEP is responsible for ensuring the effective implementation of each competitive grant project in accordance with the provisions of this announcement and the terms of the grant award document. Applicants should assume that ODEP staff, or their designees will conduct on-site project reviews periodically. Reviews will focus on timely project implementation, performance in meeting the grant's programmatic goals and objectives, expenditure of grant funds on allowable activities, integration and coordination with other resources and service providers in the local area, and project management and administration in achieving project objectives. HS/HT Implementation and Development Grants may be subject to other additional reviews at the discretion of ODEP.

Reporting: Grantees will be required to submit quarterly financial and narrative progress reports under the HS/HT Grant program as prescribed by OMB Circular A-102 and A-110, as codified by 29 CFR parts 97 and 95 respectively.

(1) A Quarterly Report will be required within thirty (30) days of the end of each quarter beginning ninety days from the award of the grant and is estimated to take five hours to prepare on average. The form for the Quarterly Report will be provided by ODEP. ODEP will work with the grantee to help refine the requirements of the report, which will, among other things, include measures of ongoing analysis for continuous improvement and customer satisfaction.

(2) Financial reporting will be required quarterly using the on-line electronic reporting system for the Standard Form 269—Financial Status Report (FSR).

(3) A Final Project Report, including an assessment of project performance and outcomes achieved will be required and is estimated to take twenty hours to complete. This report will be submitted in hard copy and on electronic disk using a format and following instructions that will be provided by ODEP. A draft of the final report is due to the ODEP thirty (30) days before the termination of the grant. The final report is due to ODEP sixty (60) days following the termination of the grant.

ODEP's evaluation of the HS/HT program encompasses a process evaluation that includes extensive information pertaining to achievements under the grant (e.g., training provided to staff, coordination with disability entities, etc.), as well as summary information pertaining to HS/HT implementation and the numbers of people with disabilities registered, receiving services, and employed through the One-Stop system, among other areas.

ODEP may arrange for and conduct an independent evaluation of the outcomes, impacts, and accomplishments of each funded project. Grantees must agree to make available records on all parts of project activity, including participant post secondary and employment data, and to provide access to personnel, as specified by the evaluator(s), under the direction of ODEP. This independent evaluation is separate from the ongoing evaluation for continuous improvement required of the grantee for project implementation.

Grantees must also agree to work with ODEP in its various technical assistance efforts in order to freely share with others what is learned. Grantees must agree to collaborate with other research institutes, centers, studies, and evaluations that are supported by DOL and other relevant Federal agencies, as appropriate. Finally, Grantees must agree to actively utilize the programs sponsored by the ODEP, including the Job Accommodation Network, (http://www.jan.wvu.edu), and the Employer Assistance Referral Network (http://www.earnworks.com).

The DOL has established priorities for FY 2003 as noted in the introduction of Part VII—Government Requirements/Statement of Work. HS/HT Grantees will be expected to support these priorities.

Part IX. Review Process and Evaluation Criteria

All applications will be reviewed for compliance with the requirements of this notice. A careful evaluation of applications will be made by a technical review panel, which will evaluate the applications against the rating criteria listed in this SGA. The panel results are advisory in nature and not binding on the Grant Officer. The DOL may elect to award grants either with or without discussion with the applicant. In situations without discussions, an award will be based on the applicant's signature on the SF 424, which constitutes a binding offer. The Grant Officer may consider any information that is available and will make final award decisions based on what is most advantageous to the Government, considering factors such as:

Panel findings; Geographic distribution of the competitive applications and the currently existing state grants (Connecticut, Georgia); and Availability of funds.

X. Administration Provisions

A. Administrative Standards and Provisions

Grantees are strongly encouraged to read these regulations before submitting a proposal. The grant awarded under this SGA shall be subject to the following as applicable:

• 29 CFR Part 95—Grants and Agreements With Institutions of Higher Education, Hospitals, and Other Non-Profit Organizations, and With Commercial Organizations, Foreign Governments, Organizations Under the Jurisdiction of Foreign Governments, and International Organizations;

• 29 CFR Part 96— Audit Requirements for Grants, Contracts, and Other Agreements.

• 29 CFR Part 97—Uniform Administrative Requirement for Grants and Cooperative Agreements to State and Local Governments.

B. Allowable Cost

Determinations of allowable costs shall be made in accordance with the following applicable Federal cost principles:

• State and Local Government—OMB Circular A-87.

• Nonprofit Organizations—OMB Circular A-122.

• Profit-Making Commercial Firms—48 CFR part 31.

Profit will not be considered an allowable cost in any case.

C. Grant Assurances

As a condition of the award, the applicant must certify that it will comply fully with the nondiscrimination and equal opportunity provisions of the following laws:

• 29 CFR Part 31—Nondiscrimination in Federally-assisted programs of the Department of Labor, effectuation of Title VI of the Civil Rights Act of 1964.

• 29 CFR Part 32—Nondiscrimination on the Basis of Disability in Programs and Activities Receiving or Benefiting from Federal Assistance. (Implementing section 504 of the Rehabilitation Act, 29 U.S.C. 794).

• 29 CFR Part 36—Nondiscrimination on the Basis of Sex in Education Programs or Activities Receiving Federal Financial Assistance. (Implementing title IX of the Education Amendments of 1972, 20 U.S.C. 1681 et seq.).

• 29 CFR Part 37—Nondiscrimination and Equal Opportunity Provisions of the Workforce Investment Act of 1998 (WIA), (Implementing Section 188 of the Workforce Investment Act, 29 U.S.C. 2938).

The applicant must include assurances and certifications that it will comply with these laws in its grant application. The assurances and certifications are attached as Appendix C.

Signed at Washington, DC, this 3rd day of June, 2003.
Lawrence J. Kuss,
Grant Officer.

Appendix A. Application for Federal Assistance, Form SF 424

Appendix B. Budget Information Sheet, Form SF 424A

Appendix C. Assurances and Certifications Signature Page

Appendix D. Survey on Ensuring Equal Opportunity

BILLING CODE 4510-CX-P

[FR Doc. 03-14351 Filed 6-5-03; 8:45 am]

BILLING CODE 4510-CX-C